DEPARTMENT OF THE INTERIOR

National Park Service

[[NPS-SER-FOMA-15561;PSESEROC3, PPMPSAS1Y.YP0000]

Final General Management Plan, and Final Environmental Impact Statement, Fort Matanzas National Monument, Florida

AGENCY: National Park Service, Interior.

ACTION: Notice of availability.

SUMMARY: Pursuant to Section 102(2)(C) of the National Environmental Policy Act of 1969, 42 U.S.C. 4332(2)(C), the National Park Service (NPS) announces the availability of a Final Environmental Impact Statement for the General Management Plan (Final EIS/GMP) for Fort Matanzas National Monument (National Monument), Florida. Consistent with NPS laws, regulations, and policies and the purpose of the National Monument, the Final EIS/GMP will guide the management of the National Monument over the next 20+ years.

DATES: The NPS will execute a Record of Decision no sooner than 30 days following publication by the Environmental Protection Agency's Notice of Availability of the Final EIS/GMP in the Federal Register.

ADDRESSES: Electronic copies of the Final EIS/GMP will be available online at http://parkplanning.nps.gov/FOMA. To request a copy, contact David Libman, National Park Service, 100 Alabama Street, 1924 Building, Atlanta, Georgia 30303; telephone (404) 507- 5701. A limited number of compact disks and printed copies of the Final EIS/GMP will be made available at Fort Matanzas National Monument Headquarters, One South Castillo Drive, St. Augustine, FL 32084.

FOR FURTHER INFORMATION CONTACT: David Libman, National Park Service, 100 Alabama Street, 1924 Building, Atlanta, Georgia 30303; telephone (404) 507-5701.

SUPPLEMENTARY INFORMATION: The Final EIS/GMP responds to, and incorporates agency and public comments received on the Draft EIS, which was available for public review from June 22, 2012, through August 20, 2012. Two public meetings were held on July 23, 2012 and July 24, 2012, and a total of 1,857 comments were received. The NPS responses to substantive agency and public comments are provided in Chapter 5, Consultation and Coordination section, of the Final EIS/GMP.

The Final EIS/GMP evaluated three alternatives for managing use and development of the National Monument:

• Alternative A, the No Action alternative, represents the continuation of current management action and direction into the future.

• Alternative B, the NPS preferred alternative, centers around managing the National Monument in a manner consistent with its history as a small military outpost within a sometimes harsh, but beautiful and rich natural environment. There would be minimal development of new facilities and minimal expansion of existing facilities. There would be increased emphasis on the interpretation of the natural environment.

• Alternative C combines the history of the Rattlesnake Island fortified outpost with its establishment as a National Monument and the further development and evolution of the park to its present day configuration. A portion of the north end of Anastasia Island would be preserved as an exhibit that commemorates the efforts of the New Deal agencies and local citizens would create a permanent monument to the Spanish history of the site. The central and southern ends of Anastasia Island, and the east side of Highway A1A would continue to be managed to protect and conserve the natural resources of the zone.

The responsible official for this Final EIS/GMP is the Regional Director, NPS Southeast Region, 100 Alabama Street SW., 1924 Building, Atlanta, Georgia 30303.

Dated: May 7, 2014.
Sherri L. Fields,
Acting Regional Director, Southeast Region.

[FR Doc. 2014-13780 Filed 6-11-14; 8:45 am]

BILLING CODE 4310-JD-P